COMMODITY FUTURES TRADING COMMISSION

Agency Information Collection Activities Under OMB Review

AGENCY: Commodity Futures Trading Commission.

ACTION: Notice to Renew an Existing Collection—3038-0033.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before January 15, 2009.

FOR FURTHER INFORMATION OR A COPY CONTACT: Lynn A. Bulan, Office of General Counsel, U.S. Commodity Futures Trading Commission, 1155 21st Street, NW., Washington, DC 20581, (202) 418-5143; FAX: (202) 418-5567; e-mail: lbulan@cftc.gov and refer to OMB Control No. 3038-0033.

SUPPLEMENTARY INFORMATION: This is a request for extension of a currently approved information collection.

Abstract: Title: Notification of Pending Legal Proceedings Pursuant to 17 CFR 1.60, OMB Control No. 3038-0033—Extension

The rule is designed to assist the Commission in monitoring legal proceedings involving the responsibilities imposed on contract markets and their officials and futures commission merchants and their principals by the Commodity Exchange Act, or otherwise. These rules are promulgated pursuant to the Commission's rulemaking authority contained in Sections 4a(a), 4i, and 8a(5) of the Act, 7 U.S.C. 6a(1), 6i, and 12a(5).

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on October 2, 2008 (73 FR 57338).

Burden statement: The respondent burden for this collection is estimated to average.10 hours per response.

Respondents/Affected Entities: 157.

Estimated number of responses: 1.

Estimated total annual burden on respondents: .10 hours.

Frequency of collection: On occasion.

Send comments regarding the burden estimated or any other aspect of the information collection, including suggestions for reducing the burden, to the addresses listed below. Please refer to OMB Control No. 3038-0033 in any correspondence.

Lynn A. Bulan, Office of General Counsel, U.S. Commodity Futures Trading Commission, 1155 21st Street, NW., Washington, DC 20581; and

Office of Information and Regulatory Affairs, Office of Management and Budget, Attention: Desk Officer for CFTC, 725 17th Street, Washington, DC 20503.

Dated: December 9, 2008.
David Stawick,
Secretary of the Commission.

[FR Doc. E8-29684 Filed 12-15-08; 8:45 am]

BILLING CODE 6351-01-P